DEPARTMENT OF ENERGY

Federal Energy Regulatory Commission

[Docket No. RP03-437-001]

WestGas InterState, Inc.; Notice of Compliance Filing

July 9, 2003.

Take notice that on July 3, 2003, WestGas InterState, Inc. (WGI) tendered for filing as part of its FERC Gas Tariff, First Revised Volume No. 1, the following tariff sheet, with a proposed effective date of July 1, 2003:

Substitute Sixth Revised Sheet No. 92

WGI asserts that the purpose of this filing is to comply with the Letter Order issued in Docket No. RP03-437-000 on June 25, 2003. WGI states that the above tariff sheet has been revised to be in compliance with the Commission's Order No. 587-R and the Western Gas Quadrant Standards promulgated by the North American Energy Standards Board.

WGI further states that copies of this filing have been mailed to WGI's jurisdictional customers and interested state commissions.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 15, 2003.

Magalie R. Salas,
Secretary.

[FR Doc. 03-17889 Filed 7-15-03; 8:45 am]

BILLING CODE 6717-01-P